DEPARTMENT OF JUSTICE

Drug Enforcement Administration

[Docket No. 06-58]

Piyush V. Patel, M.D.; Revocation of Registration

On May 9, 2006, the Deputy Assistant Administrator, Office of Diversion Control, Drug Enforcement Administration, issued an Order to Show Cause to Piyush V. Patel, M.D. (Respondent) of Midland, Texas. The Show Cause Order proposed the revocation of Respondent's DEA Certificate of Registration, AP1614800, as a practitioner, on the ground that Respondent's license to practice medicine in the State of Texas had been revoked, and that Respondent was therefore “without authority to handle controlled substances in Texas, the State in which [he] practices.” Show Cause Order at 1. The Show Cause Order also informed Respondent of his right to request a hearing.

Respondent, acting pro se, filed a timely request for a hearing; the matter was assigned to Administrative Law Judge (ALJ) Mary Ellen Bittner. In that request, Respondent stated that he was currently incarcerated and requested that the hearing be delayed until after his release on April 7, 2007. Respondent also indicated that he was not currently licensed by the Texas State Board of Medical Examiners.

On June 21, 2006, the Government moved for summary disposition on the ground that Respondent was “not currently authorized to engage in the active practice of medicine or to handle controlled substances in Texas.” Mot. for Summary Disp. at 2. In support of its motion, the Government attached an “Agreed Order” (dated August 26, 2005) which Respondent had entered into with the Texas State Board of Medical Examiners. Under the order, Respondent's Texas medical license was revoked.

Thereafter, on July 13, 2006, the ALJ denied Respondent's request to stay the hearing until after his release from prison. ALJ Dec. at 2. The ALJ further ordered that Respondent file a response to the Government's motion by August 3, 2006. Respondent, however, failed to do so.

Thereafter, the ALJ granted the Government's motion. The ALJ noted that Respondent “acknowledges that his license to practice medicine in Texas is revoked, and will remain revoked at least until his release from prison on April 7, 2007.” Id. As this material fact was undisputed, the ALJ held that because “Respondent lacks state authority, he is not entitled to a DEA registration in Texas,” and therefore recommended that Respondent's registration be revoked. Id. at 2-3. The ALJ then forwarded the record to me for final agency action.

Having considered the record as a whole, I adopt the ALJ's recommendation that Respondent's registration be revoked. But in doing so, I decline to adopt the ALJ's reasoning to the extent it relies solely on the Texas State Board of Medical Examiner's revocation of Respondent's medical license. Under Texas law, a practitioner must obtain a separate state registration to dispense a controlled substance. Texas Health & Safety Code § 481.061. The record, however, contains no evidence regarding the status of Respondent's state registration.

Therefore, in accordance with 5 U.S.C. 556(e), I take official notice of the fact that according to the Texas Department of Public Safety's Controlled Substances Registration verification search page, Respondent is not currently registered to dispense controlled substances in the State.¹

¹ Under the Administrative Procedure Act, “[a]gencies may take official notice of facts at any stage in a proceeding—even in the final decision.” Attorney General's Manual on the Administrative Procedure Act 80 (1946) ( Wm. W. Gaunt & Sons, Inc., reprint 1979). In accordance with the Act, Respondent may “show to the contrary” by filing a request for reconsideration which includes supporting documentation within fifteen days of receipt of this order.

Under the Controlled Substances Act (CSA), a practitioner must be currently authorized to handle controlled substances in “the jurisdiction in which he practices” in order to maintain a DEA registration. See 21 U.S.C. 802(21) (“[t]he term ‘practitioner' means a physician * * * licensed, registered, or otherwise permitted, by * * * the jurisdiction in which he practices * * * to distribute, dispense, [or] administer * * * a controlled substance in the course of professional practice”). See also id. section 823(f) (“The Attorney General shall register practitioners * * * if the applicant is authorized to dispense * * * controlled substances under the laws of the State in which he practices.”). DEA has held repeatedly that the CSA requires the revocation of a registration issued to a practitioner who no longer possesses authority under state law to handle controlled substances. See Sheran Arden Yeates, 71 FR 39130, 39131 (2006); Dominick A. Ricci, 58 FR 51104, 51105 (1993); Bobby Watts, 53 FR 11919, 11920 (1988). See also 21 U.S.C. 824(a)(3) (authorizing the revocation of a registration “upon a finding that the registrant * * * has had his State license or registration suspended [or] revoked * * * and is no longer authorized by State law to engage in the * * * distribution [or] dispensing of controlled substances”). Therefore, Respondent's DEA registration must be revoked.²

² The expiration date of Respondent's DEA registration is March 31, 2008.

Order

Accordingly, pursuant to the authority vested in me by 21 U.S.C. 823(f) & 824(a), as well as 28 CFR 0.100(b) & 0.104, I hereby order that DEA Certificate of Registration, AP1614800, issued to Piyush V. Patel, M.D., be, and it hereby is, revoked. I further order that any pending applications for renewal or modification of such registration be, and they hereby are, denied. This order is effective May 11, 2007.

Dated: March 30, 2007.
Michele M. Leonhart,
Deputy Administrator.

[FR Doc. E7-6761 Filed 4-10-07; 8:45 am]

BILLING CODE 4410-09-P